ENVIRONMENTAL PROTECTION AGENCY

[FRL-9476-7]

Office of Research and Development; Ambient Air Monitoring Reference and Equivalent Methods; Designation of One New Equivalent Method

AGENCY: Environmental Protection Agency.

ACTION: Notice of the designation of one new equivalent method for monitoring ambient air quality.

SUMMARY: Notice is hereby given that the Environmental Protection Agency (EPA) has designated, in accordance with 40 CFR Part 53, one new equivalent method for measuring concentrations of ozone (O3) in the ambient air.

FOR FURTHER INFORMATION CONTACT: Robert Vanderpool, Human Exposure and Atmospheric Sciences Division (MD-D205-03), National Exposure Research Laboratory, U.S. EPA, Research Triangle Park, North Carolina 27711. E-mail: Vanderpool.Robert@epa.gov.

SUPPLEMENTARY INFORMATION: In accordance with regulations at 40 CFR part 53, the EPA evaluates various methods for monitoring the concentrations of those ambient air pollutants for which EPA has established National Ambient Air Quality Standards (NAAQSs) as set forth in 40 CFR part 50. Monitoring methods that are determined to meet specific requirements for adequacy are designated by the EPA as either reference methods or equivalent methods (as applicable), thereby permitting their use under 40 CFR part 58 by States and other agencies for determining compliance with the NAAQSs. A list of all reference or equivalent methods that have been previously designated by EPA may be found at http://www.epa.gov/ttn/amtic/criteria.html.

The EPA hereby announces the designation of one new equivalent method for measuring pollutant concentrations of O3 in the ambient air. This designation is made under the provisions of 40 CFR part 53, as amended on June 22, 2010 (75 FR 35597).

The new O3 equivalent method is an automated monitoring method (analyzer) utilizing a measurement principle based on chemiluminescence reaction of O3 with nitric oxide (NO). (Note that this is the first O3 equivalent method designated by EPA that utilizes this particular measurement principle, which is distinguished from the measurement principle of chemiluminescence reaction of O3 with ethylene specified for EPA reference methods for O3.) The newly designated equivalent method is identified as follows:

EQOA-0611-199, “Teledyne—Advanced Pollution Instrumentation, Inc. Model 265E or T265 Chemiluminescence Ozone Analyzer,” operated on any full scale range between 0-100 ppb and 0-1000 ppb, with any range mode (Single, Dual, or AutoRange), at any ambient temperature in the range of 5 °C to 40 °C, and with a TFE filter in the sample air inlet, operated with a sample flow rate of 500 ± 50 cm³/min (sea level), with the dilution factor set to 1, with Temp/Press compensation ON, and in accordance with the appropriate associated instrument manual, and with or without any of the following options: Internal or external sample pump, Sample/Cal valve option, Rack mount with or without slides, analog input option, 4-20 mA isolated current loop output.

The application for an equivalent method determination for this candidate method was received by the EPA on November 7, 2010. The analyzer models are commercially available from the applicant, Teledyne Advanced Pollution Instrumentation, Inc., 9480 Carroll Park Drive, San Diego, CA 92121-2251.

A representative test analyzer has been tested in accordance with the applicable test procedures specified in 40 CFR part 53 (as amended on June 22, 2010). After reviewing the results of those tests and other information submitted by the applicant, EPA has determined, in accordance with part 53, that this method should be designated as an equivalent method. The information submitted by the applicant will be kept on file, either at EPA's National Exposure Research Laboratory, Research Triangle Park, North Carolina 27711 or in an approved archive storage facility, and will be available for inspection (with advance notice) to the extent consistent with 40 CFR part 2 (EPA's regulations implementing the Freedom of Information Act).

As a designated equivalent method, this method is acceptable for use by states and other air monitoring agencies under the requirements of 40 CFR part 58, Ambient Air Quality Surveillance. For such purposes, the method must be used in strict accordance with the operation or instruction manual associated with the method and subject to any specifications and limitations (e.g., configuration or operational settings) specified in the designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-08-003, December, 2008 (both available at http://www.epa.gov/ttn/amtic/qalist.html). Vendor modifications of a designated equivalent method used for purposes of Part 58 are permitted only with prior approval of the EPA, as provided in Part 53. Provisions concerning modification of such methods by users are specified under Section 2.8 (Modifications of Methods by Users) of Appendix C to 40 CFR part 58.

In general, a method designation applies to any sampler, analyzer, or method that is identical to the sampler, analyzer, or method described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of this new equivalent method is intended to assist the States in establishing and operating their air quality surveillance systems under 40 CFR Part 58. Questions concerning the commercial availability or technical aspects of the method should be directed to the applicant.

Jewel F. Morris,
Acting Director, National Exposure Research Laboratory.

[FR Doc. 2011-26092 Filed 10-6-11; 8:45 am]

BILLING CODE 6560-50-P